DEPARTMENT OF STATE

[Public Notice 3228]

Culturally Significant Objects Imported for Exhibition Determinations: “Van Gogh Portraits: Face to Face”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Van Gogh Portraits: Face to Face,” imported from abroad for the temporary exhibition without profit within the United States, are of cultural significance. These objects are imported pursuant to loan agreements with foreign lenders. I also determine that the exhibition or display of the exhibit objects at the Detroit Institute of Arts, Detroit, MI, from March 12 through June 4, 2000, at the Museum of Fine Arts from July 2, 2000 through September 24, 2000, and at the Philadelphia Museum of Art, from October 22, 2000 through January 14, 2001 is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44; 301 4th Street, SW, Room 700, Washington, DC 20547-0001.

Dated: February 10, 2000.
William B. Bader,
Assistant Secretary of State, Bureau of Educational and Cultural Affairs, U.S. Department of State.

[FR Doc. 00-3827 Filed 2-15-00; 8:45 am]

BILLING CODE 4710-08-P